DEPARTMENT OF HEALTH AND HUMAN SERVICES

Centers for Disease Control and Prevention

[60Day-22-0822; Docket No. CDC-2022-0009]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled, The National Intimate Partner and Sexual Violence Survey (NISVS). NISVS is a surveillance system used to monitor the magnitude of sexual violence, stalking, and intimate partner violence victimization among adults in the U.S.

DATES: CDC must receive written comments on or before May 6, 2022.

ADDRESSES: You may submit comments, identified by Docket No. CDC-2022-0009 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The National Intimate Partner and Sexual Violence Survey (NISVS) (OMB Control No. 0920-0822, Exp. 03/31/2023)—Revision—National Center for Injury Prevention and Control (NCIPC), Centers for Disease Control and Prevention (CDC).

Background and Brief Description

This is a Revision request for the currently approved National Intimate Partner and Sexual Violence Survey (NISVS) (OMB Control No. 0920-0822, Exp. 03/31/2023). NISVS is a surveillance system used to monitor the magnitude of sexual violence (SV), stalking, and intimate partner violence (IPV) victimization among adults in the U.S. This Revision is being requested to continue collection of this data annually. Data are used by the federal government, states, partner organizations, and stakeholders to inform prevention programs and policies related to SV, stalking, and IPV. Additionally, NISVS data will be used in training programs, peer reviewed journals, technical reports, factsheets and other media. Datasets are made public for external researchers to use as well. NISVS data has also been used in the context of health equity by looking at race and ethnicity and sexual orientation. In 2010, NISVS collected data for the National Institute of Justice (NIJ) to examine IPV, SV, and stalking among American Indian and Alaska Native people. NISVS collected data in 2010, and again in 2016-17 for the Department of Defense (DoD) to understand the prevalence of violence among active-duty women, active-duty men, and the wives of active-duty men.

Continuing to document and monitor the prevalence of IPV, SV, and stalking is a critical step to improving the health of individuals, making communities safer, and reducing the social and healthcare costs currently burdening state and federal governments and programs. NISVS data can be used to inform public policies and prevention strategies and to help guide and evaluate progress towards reducing the substantial health and social burden associated with IPV, SV, and stalking.

The modification in this Revision request is to fully implement the redesigned methodology and questionnaire for full national-level data collection. The redesigned NISVS will use an address-based sampling frame with push-to-web collection and optional call-in telephone option, increasing the response rate, decreasing costs, and reducing respondent burden. NISVS data will be collected using address-based randomized sampling with push-to-web design, whereby respondents will complete the survey on the internet. A call-in telephone option will be available to those who prefer to take the survey by phone.

The subpopulation to be studied is non-institutionalized, English- and Spanish-speaking women and men aged 18 years or older in the United States. Data are analyzed using appropriate statistical software to account for the complexity of the survey design to compute weighted counts, percentages, and confidence intervals using national and state-level data.

CDC requests OMB approval for an estimated total of 7,938 annualized burden hours. There are no costs to respondents other than their time to participate.

Estimated Annualized Burden Hours
Type of respondents | Form name | Number of respondents | Number of responses per respondent | Average burden per response (in hours) | Total burden (in hours)
Individuals and Households | Letter | 15,000 | 1 | 6/60 | 1,500
| Screener | 15,000 | 1 | 3/60 | 750
| Web Questionnaire | 14,250 | 1 | 25/60 | 5,938
| Phone Questionnaire | 750 | 1 | 40/60 | 500
Total |  |  |  |  | 7,938

Jeffrey M. Zirger,
Lead, Information Collection Review Office, Office of Scientific Integrity, Office of Science, Centers for Disease Control and Prevention.

[FR Doc. 2022-04669 Filed 3-4-22; 8:45 am]

BILLING CODE 4163-18-P